DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Protocol for Access to Tissue Specimen Samples from the National Marine Mammal Tissue Bank.

Form Number(s): None.

OMB Approval Number: 0648-0468.

Type of Request: Regular submission.

Burden Hours: 80.

Number of Respondents: 20.

Average Hours per Response: 2 hours.

Needs and Uses: The National Marine Fisheries Service proposes to make available tissue specimen samples to the scientific community for research that is consistent with the goal of the National Marine Mammal Tissue Bank (NMMTB) and the Marine Mammal Health and Stranding Response Program (MMHSRP). There is a very limited amount of samples available and the NMMTB emphasizes that the intended use of these tissue specimens be for retrospective analysis. Priority will be given to requests that fulfill the goals of the NMMTB, MMHSRP, and to research that would otherwise not be accomplished because of limited availability of samples.

Affected Public: Not-for-profit institutions; business or other for-profit organizations; individuals or households.

Frequency: On occasion.

Respondent's Obligation: Required to obtain or retain benefit.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: January 10, 2006.
Gwellnar Banks,
Management Analyst, Office of the Chief Information Officer.

[FR Doc. E6-372 Filed 1-13-06; 8:45 am]

BILLING CODE 3510-22-P